DEPARTMENT OF AGRICULTURE

Agricultural Marketing Service

[Docket No. ST04-05]

Plant Variety Protection Board; Open Meeting

AGENCY: Agricultural Marketing Service, USDA.

ACTION: Notice of meeting.

SUMMARY: This notice sets forth the schedule and proposed agenda of a forthcoming meeting of the Plant Variety Protection Board.

DATES: May 26, 2004, 8:30 a.m. to 5 p.m., open to the public.

ADDRESSES: The meeting will be held in the United States Department of Agriculture George Washington Carver Center, 5601 Sunnyside Avenue, Beltsville, Maryland. Written comments may be submitted before or after the meeting to the contact person identified herein at: 1301 Baltimore Blvd., Room 400 National Agricultural Library Building, Beltsville, MD 20705-2351.

FOR FURTHER INFORMATION CONTACT: Commissioner Paul M. Zankowski, Plant Variety Protection Office, Science and Technology Program, United States Department of Agriculture, Telephone number (301) 504-5518 or fax (301) 504-5291.

SUPPLEMENTARY INFORMATION: Pursuant to the provisions of section 10(a) of the Federal Advisory Committee Act (Pub. L. 92-463, 5 U.S.C. App.), this notice is given regarding a Plant Variety Protection Advisory Board meeting. The board is constituted under section 7 of the Plant Variety Protection Act (7 U.S.C. 2327).

The proposed agenda for the meeting will include discussions of: (1) The accomplishments of the Plant Variety Protection Office, (2) the financial status of the Plant Variety Protection Office, (3) review of the quality assurance program, (4) potential relocation of the Plant Variety Protection Office, (5) status of the migration of the existing database, (6) E-business plans, (7) process improvement (Six Sigma) plan, and (8) other related topics.

Upon entering the George Washington Carver Center, visitors should inform security personnel that they are attending the PVP Advisory Board Meeting. Identification will be required to be admitted to the building. Security personnel will direct visitors to the registration table located outside of Room 4-2223. Registration upon arrival is necessary for all participants.

If you require accommodations, such as sign language interpreter, please contact the person listed under FOR FURTHER INFORMATION CONTACT. The meeting will be recorded, and information about obtaining a transcript will be provided at the meeting.

Dated: April 15, 2004.
Kenneth C. Clayton,
Acting Administrator, Agricultural Marketing Service.

AGENDA

Plant Variety Protection (PVP) Board Meeting, USDA, George Washington Carver Center, 5601 Sunnyside Avenue, Beltsville, Maryland

May 26, 2004

8:30 a.m. to 5 p.m.

Call to Order

Introductions

Opening Remarks

Adoption of Agenda

Adoption of March 2003 Board Meeting Minutes

Appeals to the Secretary of Agriculture

FY 2003 Accomplishment Report

PVPO Financial update

PVP Quality Assurance Program Update

PVP Office Relocation Discussion

Database Migration Update

E-business Update and Plans

Update on Business Process Improvement (Six Sigma) Plan

Topics brought forward by Board Members

Future Program Activities Meeting Summary

Adjourn

[FR Doc. 04-8897 Filed 4-19-04; 8:45 am]

BILLING CODE 3410-02-P